DEPARTMENT OF TRANSPORTATION

Federal Aviation Administration

14 CFR Part 71

[Docket No. FAA-2020-0186; Airspace Docket No. 19-ANE-5]

RIN 2120-AA66

Proposed Amendment and Establishment of Area Navigation (RNAV) Routes; Northeastern United States

AGENCY: Federal Aviation Administration (FAA), DOT.

ACTION: Notice of proposed rulemaking (NPRM).

SUMMARY: This action proposes to amend low altitude RNAV route T-300, and establish low altitude RNAV routes T-391, T-393, and T-395 in the northeastern United States. The proposed changes would reduce the dependency of the National Airspace System (NAS) on ground-based navigational systems, and assist with the transition to a more efficient Performance Based Navigation (PBN) route structure. This proposal would also provide RNAV routing in support the FAA's VOR Minimum Operating Network (VOR MON) program.

DATES: Comments must be received on or before May 8, 2020.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2020-0186; Airspace Docket No. 19-ANE-5 at the beginning of your comments. You may also submit comments through the internet at https://www.regulations.gov.

FAA Order 7400.11D, Airspace Designations and Reporting Points, and subsequent amendments can be viewed online at https://www.faa.gov/air_traffic/publications/. For further information, you can contact the Policy Group, Federal Aviation Administration, 800 Independence Avenue SW, Washington, DC 20591; telephone: (202) 267-8783. The Order is also available for inspection at the National Archives and Records Administration (NARA). For information on the availability of FAA Order 7400.11D at NARA, email: fedreg.legal@nara.gov, or go to https://www.archives.gov/federal-register/cfr/ibr-locations.html.

FOR FURTHER INFORMATION CONTACT: Sean Hook, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the northeastern United States to improve the efficiency of the NAS by lessening the dependency on ground-based navigation aids.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0186; Airspace Docket No. 19-ANE-5 and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0186; Airspace Docket No. 19-ANE-5.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Eastern Service Center, Federal Aviation Administration, Room 210, 1701 Columbia Ave., College Park, GA 30337.

Availability and Summary of Documents for Incorporation by Reference

This document proposes to amend FAA Order 7400.11D, Airspace Designations and Reporting Points, dated August 8, 2019, and effective September 15, 2019. FAA Order 7400.11D is publicly available as listed in the ADDRESSES section of this proposed rule. FAA Order 7400.11D lists Class A, B, C, D, and E airspace areas, air traffic service routes, and reporting points.

The Proposal

The FAA is proposing an amendment to Title 14 Code of Federal Regulations (14 CFR) part 71 to amend low altitude RNAV route T-300, and establish low altitude RNAV routes T-391, T-393, and T-395, in the northeastern United States. The purpose of the routes is to expand the availability of RNAV and improve the efficiency of the NAS by reducing the dependency on ground-based navigation systems. The proposed T-routes would provide RNAV capability in the northeast U.S. where certain VOR navigation aids are planned for decommissioning as part of the FAA's VOR MON program. The following is a general description of the proposed routes.

T-300: T-300 is an existing route that currently extends between the Albany, NY (ALB) VORTAC, and the Martha's Vineyard, MA (MVY) VOR/DME. The FAA is proposing to extend T-300 north of the Albany VORTAC to the SSENA, NY, waypoint (WP). The SSENA, NY, WP would be located in the vicinity of the Massena, NY (MSS), VORTAC which is planned for decommissioning at a later date. The following points would be inserted between the Albany VORTAC and the SSENA WP: OTOLE, NY, Fix; GASSY, NY, Fix; OPDIE, NY, WP; UUBER, NY, WP; JONNN, NY, Fix; and the STANK, NY, WP. T-300 would overlie VOR Federal airway V-203 between the Albany VORTAC, and the GASSY, NY, Fix. From that point, T-300 would be offset to the east of V-203, passing through the OPDIE, NY, WP; UUBER, NY, WP; JONNN, NY, Fix; and STANK, NY, WP, to the SSENA, NY, WP.

The FAA also proposes to remove the Norwich, CT (ORW), VOR/DME; the FALMA, RI, Fix; and the Martha's Vineyard, MA, VOR/DME from the T-300 route description. The Norwich VOR/DME would be replaced by the YANCT, CT, Fix which would be inserted in the route description between the NELLIE, CT, Fix, and the MINNK, RI, Fix. The YANCT WP would be located in the vicinity of the Norwich VOR/DME which is planned for decommissioning at a later date. Finally, the current T-300 route segment that extends between the MINNK, RI, Fix, and the Martha's Vineyard VOR/DME would be removed from the route and that end of the route would be realigned to proceed from the MINNK Fix southeastward to the NEWBE, RI, Fix, and the DEEPO, MA, fix.

T-391: T-391 is a proposed new route that would overlie VOR Federal airway V-29 between the TUMPS, NY, Fix, and the Massena, NY (MSS), VORTAC. T-391 would extend between the TUMPS Fix and the SSENA, NY, WP. The SSENA WP would be located in the vicinity of the Massena VORTAC, as described under T-300, above. T-391 would include following points between the TUMPS Fix and the SSENA WP: Syracuse, NY (SYR), VORTAC; PAGER, NY, Fix; BRUIN, NY, Fix; Watertown, NY (ART), VORTAC; WILRD, NY, Fix; and the LETUS, NY, Fix.

T-393: T-393 is a proposed new route that would overlie VOR Federal airway V-151 between the GAILS, MA, Fix, and the Burlington, VT (BTV) VOR/DME. The following points would be included between the GAILS Fix and the Burlington VOR/DME: INNDY, MA, Fix; Providence, RI (PVD) VOR/DME; FOSTY, RI, Fix; PUTNM, CT, WP; GRIPE, MA, Fix; Gardner, MA (GDM), VOR/DME; KEYNN, NH, WP; STRUM, NH, Fix; UNKER, NH, Fix; MCADM, NH, Fix; LBNON, NH, WP; ZIECH, VT, Fix; DAVID, VT, Fix; Montpelier, VT (MPV), VOR/DME; CEVIB, VT, Fix; and the POROE, VT, Fix.

The PUTNM, CT WP would be located in the vicinity of the Putnam, CT (PUT), VOR/DME which is planned for decommissioning at a later date. The KEYNN, NH, WP would be located in the vicinity of the Keene, NH (EEN), VORTAC which is planned for decommissioning at a later date. The LBNON, NH, WP would be located in the vicinity of the Lebanon, NH (LEB), VOR/DME which is planned for decommissioning at a later date.

T-395: T-395 is a proposed new route that would overlie VOR Federal airway V-322 between the Concord, NH (CON), VOR/DME and the BRLIN, NH, WP. The BRLIN WP would be located in the vicinity of the Berlin, NH (BML), VOR/DME, which is planned for decommissioning at a later date. The following points would be included between the Concord VOR/DME and the BRLIN WP: YECKA, NH, Fix; GRUMP, NH, Fix; LAROE, NH, Fix; NOTTY, NH, Fix; WYLIE, ME, Fix; and the JOBBY, NH, Fix.

United States Area Navigation routes are published in paragraph 6011 of FAA Order 7400.2D, dated August 8, 2019, and effective September 15, 2019, which is incorporated by reference in 14 CFR 71.1. The RNAV routes listed in the document would be subsequently published in the Order. FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011 United States Area Navigation Routes.

* * * * *

T-300 SSENA, NY to DEEPO, MA [Amended]
SSENA, NY | WP | (Lat. 44°54′51.43″ N, long. 074°43′21.31″ W)
STANK, NY | WP | (Lat. 44°47′00.00″ N, long. 074°07′00.00″ W)
JONNN, NY | FIX | (Lat. 44°34′13.71″ N, long. 074°01′38.96″ W)
UUBER, NY | WP | (Lat. 44°28′00.25″ N, long. 074°01′10.54″ W)
OPDIE, NY | WP | (Lat. 44°16′46.05″ N, long. 074°00′14.41″ W)
GASSY, NY | FIX | (Lat. 43°24′53.26″ N, long. 073°57′50.84″ W)
OTOLE, NY | FIX | (Lat. 42°56′58.56″ N, long. 073°51′05.77″ W)
Albany, NY (ALB) | VORTAC | (Lat. 42°44′50.21″ N, long. 073°48′11.47″ W)
NELIE, CT | FIX | (Lat. 41°56′27.64″ N, long. 072°41′18.88″ W)
YANTC, CT | WP | (Lat. 41°33′22.81″ N, long. 071°59′56.95″ W)
MINNK, RI | FIX | (Lat. 41°21′40.67″ N, long. 071°25′27.20″ W)
NEWBE, RI | FIX | (Lat. 41°12′24.39″ N, long. 071°04′26.92″ W)
DEEPO, MA | FIX | (Lat. 41°06′53.96″ N, long. 070°50′09.85″ W)
T-391 TUMPS, NY to SSENA, NY [New]
TUMPS, NY | FIX | (Lat. 43°01′18.27″ N, long. 076°10′04.09″ W)
Syracuse, NY (SYR) | VORTAC | (Lat. 43°09′37.87″ N, long. 076°12′16.41″ W)
PAGER, NY | FIX | (Lat. 43°25′25.64″ N, long. 076°09′30.34″ W)
BRUIN, NY | FIX | (Lat. 43°39′59.04″ N, long. 076°06′55.97″ W)
Watertown, NY (ART) | VORTAC | (Lat. 43°57′07.67″ N, long. 076°03′52.66″ W)
WILRD, NY | FIX | (Lat. 44°15′43.61″ N, long. 075°47′03.12″ W)
LETUS, NY | FIX | (Lat. 44°37′22.34″ N, long. 075°27′11.44″ W)
SSENA, NY | WP | (Lat. 44°54′51.43″ N, long. 074°43′21.31″ W)
T-393 GAILS, MA to Burlington, VT (BTV) [New]
GAILS, MA | FIX | (Lat. 41°52′08.51″ N, long. 070°24′07.69″ W)
INNDY, MA | FIX | (Lat. 41°46′19.19″ N, long. 071°05′55.93″ W)
Providence, RI (PVD) | VOR/DME | (Lat. 41°43′27.63″ N, long. 071°25′46.71″ W)
FOSTY, RI | FIX | (Lat. 41°50′35.46″ N, long. 071°38′31.34″ W)
PUTNM, CT | WP | (Lat. 41°57′19.65″ N, long. 071°50′38.76″ W)
GRIPE, MA | FIX | (Lat. 42°08′08.87″ N, long. 071°54′32.47″ W)
Gardner, MA (GDM) | VOR/DME | (Lat. 42°32′45.31″ N, long. 072°03′29.48″ W)
KEYNN, NH | WP | (Lat. 42°47′39.99″ N, long. 072°17′30.35″ W)
STRUM, NH | FIX | (Lat. 42°55′51.18″ N, long. 072°16′48.88″ W)
UNKER, NH | FIX | (Lat. 43°20′55.19″ N, long. 072°14′40.50″ W)
MCADM, NH | FIX | (Lat. 43°32′44.84″ N, long. 072°13′39.34″ W)
LBNON, NH | WP | (Lat. 43°40′44.43″ N, long. 072°12′58.18″ W)
ZIECH, VT | FIX | (Lat. 43°49′58.39″ N, long. 072°18′14.50″ W)
DAVID, VT | FIX | (Lat. 43°54′35.43″ N, long. 072°20′53.51″ W)
Montpelier, VT (MPV) | VOR/DME | (Lat. 44°05′07.74″ N, long. 072°26′57.76″ W)
CEVIB, VT | FIX | (Lat. 44°11′40.96″ N, long. 072°42′15.29″ W)
POROE, VT | FIX | (Lat. 44°13′28.02″ N, long. 072°46′26.54″ W)
Burlington, VT (BTV) | VOR/DME | (Lat. 44°23′49.58″ N, long. 073°10′57.48″ W)
T-395 Concord, NH (CON) to BRLIN, NH [New]
Concord, NH (CON) | VOR/DME | (Lat. 43°13′11.23″ N, long. 071°34′31.63″ W)
YECKA, NH | FIX | (Lat. 43°28′08.16″ N, long. 071°26′13.93″ W)
GRUMP, NH | FIX | (Lat. 43°33′05.83″ N, long. 071°23′27.86″ W)
LAROE, NH | FIX | (Lat. 43°44′58.72″ N, long. 071°16′47.95″ W)
NOTTY, NH | FIX | (Lat. 44°01′57.29″ N, long. 071°07′11.43″ W)
WYLIE, ME | FIX | (Lat. 44°14′36.30″ N, long. 070°59′57.84″ W)
JOBBY, NH | FIX | (Lat. 44°24′34.54″ N, long. 071°04′43.11″ W)
BRLIN, NH | WP | (Lat. 44°38′00.82″ N, long. 071°11′10.32″ W)

* * * * *

Issued in Washington, DC, on March 11, 2020.
Scott M. Rosenbloom,
Acting Manager, Rules and Regulations Group.

[FR Doc. 2020-05864 Filed 3-23-20; 8:45 am]

BILLING CODE 4910-13-P